DEPARTMENT OF THE INTERIOR

Fish and Wildlife Service

Availability of Final Comprehensive Conservation Plan for Fish Springs National Wildlife Refuge, Dugway, UT

AGENCY: Fish and Wildlife Service, Interior.

ACTION: Notice of availability.

SUMMARY: The U.S. Fish and Wildlife Service announces that a Comprehensive Conservation Plan (CCP) and Summary for Fish Springs National Wildlife Refuge is available. This CCP, prepared pursuant to the National Wildlife Refuge System Improvement Act of 1997 and the National Environmental Policy Act of 1969, describes how the U.S. Fish and Wildlife Service intends to manage this Refuge for the next 15 years.

ADDRESSES: A copy of the Plan or Summary may be obtained by writing to U.S. Fish and Wildlife Service, Fish Springs National Wildlife Refuge, PO Box 568, Dugway, Utah, 84022; or download from http://mountain-prairie.fws.gov/planning.

FOR FURTHER INFORMATION CONTACT: Jay Banta, Refuge Manager, U.S. Fish and Wildlife Service, Fish Springs National Wildlife Refuge, PO Box 568, Dugway, Utah, 84022. Phone 435-831-5353; fax 435-831-5354; or e-mail: jay_banta@fws.gov.

SUPPLEMENTARY INFORMATION: Background

Fish Springs National Wildlife Refuge (NWR), comprised of 17,992 acres, is located in western Utah in Juab County. Springs flowing from the eastern base of the Fish Springs Range feed a 10,000-acre saline marsh divided into nine impoundments. The remaining portion comprises 6,000 acres of mud and alkali flat and 2,000 acres of semidesert upland. The Refuge provides the only important wetland habitat for a 70-mile radius, attracting hundreds of wetland-dependent species during migration. Since Refuge establishment, more than 278 species of birds have been seen at Fish Springs NWR, 61 of which nest on the Refuge. Fish Springs NWR was established by the Migratory Bird Conservation Commission in 1959 “* * * for use as an inviolate sanctuary, or for any other management purpose, for migratory birds.”

The availability of the Draft CCP and Environmental Assessment (EA) for 30-day public review and comment was announced in the Federal Register on July 20, 2004 in Volume 69, Number 138. The Draft CCP/EA identified and evaluated three alternatives for managing Fish Springs NWR for the next 15 years. Alternative A, the No Action Alternative, would have continued current management of the Refuge. Alternative C (Preferred Alternative) emphasizes providing habitat for maximum wildlife diversity including migratory birds, and native mammal, mollusk, invertebrate, and amphibian communities. Alternative B, Marsh Restoration, would have restored the Refuge's original hydrological system and high-desert shrubland habitat to a condition resembling their historical nature prior to Refuge development.

Based on this assessment and comments received, the preferred Alternative C was selected for implementation. The preferred alternative was selected because it best meets the purpose and goals of the Refuge, as well as the goals of the National Wildlife Refuge System. The preferred alternative will also benefit migratory birds and native mammal, mollusk, invertebrate, and amphibian communities. Increased efforts in visitor services and the addition of a goose hunt will result in improved wildlife-dependent recreational opportunities. Cultural and historical resources will be protected.

Dated: September 1, 2004.
Mary G. Henry,
Regional Director, Region 6, Denver, Colorado.

[FR Doc. 04-22262 Filed 10-1-04; 8:45 am]

BILLING CODE 4310-55-P